DEPARTMENT OF TRANSPORTATION

Federal Aviation Administration

Forty-First Meeting: Special Committee 206 (SC 206)

AGENCY: Federal Aviation Administration (FAA), U.S. Department of Transportation (DOT).

ACTION: Forty-First Meeting Notice of Special Committee 206.

SUMMARY: The FAA is issuing this notice to advise the public of the forty-first meeting of the Special Committee 206.

DATES: The meeting will be held September 14th-18th from 8:30 a.m.-5:00 p.m.

ADDRESSES: The meeting will be held at United Airlines, 233 S. Wacker Drive, Chicago, IL 60606, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a)(2) of the Federal Advisory Committee Act (Pub. L. 92-463, 5 U.S.C., App.), notice is hereby given for a meeting of the Special Committee 206. The agenda will include the following:

Monday, September 14, 2015 (08:30 a.m.-5:00 p.m.)

1. Opening Plenary

a. Opening remarks: DFO, RTCA, Chairman, and Hosts

b. Attendees' introductions

c. Review and approval of meeting agenda

d. Approval of previous meeting minutes (Hampton, VA)

e. Action item review

f. Sub-Groups' reports (SG1/6: MASPS, SG4: EDR, & SG7: Winds)

g. Industry presentations

i. Time Based Separation (TBS) System at London Heathrow

2. Sub-Groups meetings

Tuesday, September 15, 2015 (08:30 a.m.-5:00 p.m.)

1. Sub-Group Meetings

Wednesday, September 16, 2015 (08:30 a.m.-5:00 p.m.)

1. Sub-Group Meetings

Thursday, September 17, 2015 (08:30 a.m.-5:00 p.m.)

1. Sub-Group Meetings

Friday, September 15, 2015 (08:30 a.m.-11:00 a.m.)

1. Closing Plenary

a. Sub-Groups' reports

b. Future meetings plans and dates

c. Industry coordination

d. SC-206 action item review

e. Other business

2. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 14, 2015.
Latasha Robinson,
Management & Program Analyst, NextGen, Program Oversight and Administration, Federal Aviation Administration.

[FR Doc. 2015-17515 Filed 7-15-15; 8:45 am]

BILLING CODE 4910-13-P